DEPARTMENT OF ENERGY

Federal Energy Regulatory Commission

[Docket Nos. RM05-17-000; RM05-25-000]

Preventing Undue Discrimination and Preference in Transmission Service; Supplemental Notice of Technical Conferences

September 10, 2007.

On August 28, 2007, the Commission issued notices scheduling staff technical conferences in the above-captioned proceeding. As stated in the August 28 notice, these technical conferences will review and discuss the draft proposals regarding processes for transmission planning required by the “Order Extending Compliance Action Date and Establishing Technical Conferences” issued in this proceeding on July 27, 2007.¹ The Commission hereby provides the following additional information and instruction regarding these conferences, including the hotel conference sites.

¹ Preventing Undue Discrimination and Preference in Transmission Service, 120 FERC ¶ 61,103 at P 2 & 5 (2007) (July 27 Order).

In the July 27 Order, the Commission extended until December 7, 2007 the date for transmission providers to submit an Attachment K to their Open Access Transmission Tariff incorporating the transmission planning principles and concepts adopted in Order No. 890. Preventing Undue Discrimination and Preference in Transmission Service, Order No. 890, 72 FR 12266 (March 15, 2007), FERC Stats. & Regs. ¶ 31,241 at P 444-602 (2007), reh'g pending.

To facilitate the development of these filings, the Commission also required transmission providers to post a draft of their Attachment K on or before September 14, 2007, and established a second round of staff technical conferences, the agenda for which is being set in this notice, for the purpose of stakeholder review of those drafts. Additionally, on August 2, 2007, Commission staff placed in the record of this proceeding a White Paper to assist transmission providers in their development of tariff language consistent with the requirements of Order No. 890.

The attached agenda details the dates and times of the technical conferences and identifies the companies presenting their draft proposals, and the customer and industry groups to be represented in the stakeholder panels. To the extent a transmission provider is not listed or otherwise represented by a planning group as detailed on the attached agendas, it should contact the staff members listed below as soon as possible. In addition, each transmission provider should e-mail Commission staff with an electronic link to its draft proposal at 890Planning.attachK@ferc.gov as soon as such proposal is posted on the transmission provider's Web site. The Commission will provide access to links to all draft proposals in the OATT Reform section of the Commission's Web site at http://www.ferc.gov/industries/electric/indus-act/oatt-reform/draft-attachment-k.asp.

As provided for in the August 28 notice, those wishing to participate as a panelist and provide feedback on the draft proposals should submit a request form located at https://www.ferc.gov/whats-new/registration/transmission-planning-speaker-form.asp by the close of business on September 21, 2007 (Atlanta, GA conference), September 28, 2007 (Boston, MA conference), and October 5, 2007 (Denver, CO conference). In the event a transmission provider or interested party is uncertain as to which technical conference is relevant, such persons should contact staff in advance to discuss the matter.

FOR FURTHER INFORMATION CONTACT: For further information about these conferences, please contact:

Tony Ingram (Technical Information), Office of Energy Markets and Reliability, Federal Energy Regulatory Commission, 888 First Street, NE., Washington, DC 20426, (202) 502-8938, Tony.Ingram@ferc.gov.

John Cohen (Legal Information), Office of the General Counsel—Energy Markets, Federal Energy Regulatory Commission, 888 First Street, NE., Washington, DC 20426, (202) 502-8705, John.Cohen@ferc.gov.

Kimberly D. Bose,
Secretary.

[FR Doc. E7-18208 Filed 9-14-07; 8:45 am]

BILLING CODE 6717-01-P